DEPARTMENT OF COMMERCE

International Trade Administation

A-570-832

Notice of Extension of Final Results of the 2004-2005 Administrative Review of Pure Magnesium from the People's Republic of China

AGENCY: Import Administration, International Trade Administration, Department of Commerce.

EFFECTIVE DATE: July 31, 2006.

FOR FURTHER INFORMATION CONTACT: Robert Bolling or Hua Lu, AD/CVD Operations, Office 8, Import Administration, International Trade Administration, U.S. Department of Commerce, 14th Street and Constitution Avenue, NW, Washington DC 20230; telephone: (202) 482-3434 and (202) 482-6478, respectively.

SUPPLEMENTARY INFORMATION:

Background

On April 10, 2006, the Department of Commerce (“the Department”) published the preliminary results of the administrative review of the antidumping duty order on pure magnesium from the People's Republic of China (“PRC”). See Pure Magnesium from the People's Republic of China: Preliminary Results of Antidumping Duty Administrative Review, 71 FR 18067 (April 10, 2006) (“Preliminary Results”). In the Preliminary Results, we stated that we would issue our final results of review no later than 120 days after the date of publication of the preliminary results (i.e., August 8, 2006).

Extension of Time Limit for Final Results

Section 751(a)(3)(A) of the Tariff Act of 1930, as amended (“the Act”), requires the Department to issue the final results in an administrative review within 120 days of publication date of the preliminary results. However, if it is not practicable to complete the review within this time period, the Department may extend the time limit for the final results to 180 days. Completion of the final results within the 120-day period is not practicable because this review involves certain complex issues, such as valuation of various factors of production that both Petitioner and respondent addressed in their briefs.

Therefore, in accordance with section 751(a)(3)(A) of the Act, the Department is extending the time period for issuing these final results of review by 30 days until September 7, 2006.

Dated: July 24, 2006.
Stephen J. Claeys,
Deputy Assistant Secretary for Import Administration.

[FR Doc. E6-12225 Filed 7-28-06; 8:45 am]

BILLING CODE: 3510-DS-S